ENVIRONMENTAL PROTECTION AGENCY

40 CFR Part 52

[EPA-R09-OAR-2024-0210; FRL-11949-02-R9]

Air Plan Approval; California; Mojave Desert Air Quality Management District; Replacing Outdated Requirements

AGENCY: Environmental Protection Agency (EPA).

ACTION: Final rule.

SUMMARY: The Environmental Protection Agency (EPA) is taking final action to approve revisions to the Mojave Desert Air Quality Management District (MDAQMD or “District”) portion of the California State Implementation Plan (SIP). These revisions concern certain amended or rescinded prohibitory and administrative rules. We are approving action on amended or rescinded rules that regulate the pollutants under the Clean Air Act (CAA or “Act”).

DATES: This rule is effective February 9, 2026.

ADDRESSES: The EPA has established a docket for this action under Docket ID No. EPA-R09-OAR-2024-0210. All documents in the docket are listed on the https://www.regulations.gov website. Although listed in the index, some information is not publicly available, e.g., Confidential Business Information (CBI) or other information whose disclosure is restricted by statute. Certain other material, such as copyrighted material, is not placed on the internet and will be publicly available only in hard copy form. Publicly available docket materials are available through https://www.regulations.gov, or please contact the person identified in the FOR FURTHER INFORMATION CONTACT section for additional availability information. If you need assistance in a language other than English or if you are a person with a disability who needs a reasonable accommodation at no cost to you, please contact the person identified in the FOR FURTHER INFORMATION CONTACT section.

FOR FURTHER INFORMATION CONTACT: La Kenya Evans-Hopper, EPA Region IX, 75 Hawthorne St., San Francisco, CA 94105; telephone number: (415) 972-3245; email address: evanshopper.lakenya@epa.gov.

SUPPLEMENTARY INFORMATION: Throughout this document, “we,” “us,” and “our” refer to the EPA.

Table of Contents

I. Proposed Action

II. Public Comments and EPA Responses

III. EPA Action

IV. Incorporation by Reference

V. Statutory and Executive Order Reviews

I. Proposed Action

On September 11, 2025 (90 FR 43971), the EPA proposed to approve several rules and rule rescissions for the California SIP. Table 1 lists the rules submitted for approval as part of the MDAQMD portion of the SIP that are covered by this final action with the dates they were adopted by the MDAQMD and submitted to the EPA by CARB. Table 2 lists the rules (excluding Regulation VII rules) submitted for rescission from the MDAQMD portion of the SIP that are covered by this final action with the dates that they were adopted by the MDAQMD, the dates they were submitted by the California Air Resources Board (CARB), and the dates (and associated Federal Register (FR) citations) that the rules were previously approved by the EPA. Table 3 lists the rules from Regulation VII submitted for rescission that are associated with the applicable SIP for the San Bernardino County portion of the MDAQMD portion of the California SIP, and Table 4 lists the rules from Regulation VII submitted for rescission that are associated with the applicable SIP for the Riverside County portion of the MDAQMD portion of the California SIP.

Table 1—Submitted Rules Used To Replace SIP Approved Rules
Local agency | Rule No. | Rule title | Adopted/amended date | Submittal date
MDAQMD | ᵃ 464 | Oil Water Separators | June 23, 2014 | January 10, 2024.
MDAQMD | 701 | Air Pollution Emergency Contingency Actions | September 26, 2022 | May 11, 2023.
MDAQMD | ᵃ 1102 | Fugitive Emissions of VOCs from Components at Pipeline Transfer Stations | October 26, 1994 | January 10, 2024.
MDAQMD | ᵃ 1114 | Wood Products Coating Operations | August 24, 2020 | January 10, 2024.
ᵃ The January 10, 2024 SIP submission requests re-approval of existing SIP MDAQMD Rules 464, 1102 and 1114 to extend the applicability of the SIP rule throughout the District. See CARB Executive Order S-23-018, dated December 27, 2023, Attachment A.

Table 2—Submitted Rule Rescissions
[Excluding Regulation VII rules]
Local agency and rule No. | Title | Adopted/amended date | SIP approval date and FR citation | Date of rescission by MDAQMD | Submittal date
South Coast Air Quality Management District (SCAQMD) Rule 405 ᵃ | Solid Particulate Matter—Weight | May 7, 1976 | September 28, 1981, 46 FR 47451 | February 28, 2022 | May 11, 2023.
SCAQMD Rule 409 | Combustion Contaminants | August 7, 1981 | July 6, 1982, 47 FR 29231 | April 25, 2022 | May 11, 2023.
Southern California Air Pollution Control District (SoCalAPCD) Rule 432 ᵃ | Gasoline Specifications | May 7, 1976 | June 14, 1978, 43 FR 25684 | April 25, 2022 | September 23, 2022.
San Bernardino County Air Pollution Control District (SBCAPCD) Rule 432 | Gasoline Specifications | February 1, 1977 | September 8, 1978, 43 FR 40011 | April 25, 2022 | September 23, 2022.
SCAQMD Rule 464 ᵃ | Wastewater Separators | April 4, 1980 | January 21, 1981, 46 FR 5965 | August 28, 2023 | January 10, 2024.
SoCalAPCD Rule 464 | Oil and Water Separators | May 7, 1976 | June 14, 1978, 43 FR 25684 | August 28, 2023 | January 10, 2024.
SCAQMD Rule 466 | Pumps and Compressors | October 7, 1983 | January 15, 1987, 52 FR 1627 | June 26, 2023 | January 10, 2024.
SBCAPCD Rule 466 | Pumps and Compressors | February 1, 1977 | September 8, 1978, 43 FR 40011 | June 26, 2023 | January 10, 2024.
SCAQMD Rule 466.1 | Valves and Flanges | May 2, 1980 | July 8, 1982, 47 FR 29668 | June 26, 2023 | January 10, 2024.
SCAQMD Rule 467 | Pressure Relief Devices | March 5, 1982 | November 16, 1983, 48 FR 52054 | June 26, 2023 | January 10, 2024.
SBCAPCD Rule 467 | Pressure Release Devices | February 1, 1977 | September 8, 1978, 43 FR 40011 | June 26, 2023 | January 10, 2024.
SoCalAPCD Rule 470 ᵃ ᵇ | Asphalt Air Blowing | May 7, 1976 | June 14, 1978, 43 FR 25684 | August 22, 2022 | November 30, 2022.
SBCAPCD Rule 470 | Asphalt Air Blowing | February 1, 1977 | September 8, 1978, 43 FR 40011 | August 22, 2022 | November 30, 2022.
SBCAPCD Rule 480 | Natural Gas Fired Control Devices | February 20, 1979 | January 27, 1981, 46 FR 8471 | September 26, 2022 | May 11, 2023.
SCAQMD Rule 1101 ᵃ | Secondary Lead Smelters/Sulfur Oxides | October 7, 1977 | September 2, 1981, 46 FR 43968 | June 26, 2023 | January 10, 2024.
SCAQMD Rule 1104 | Wood Flat Stock Coatings Operations | March 1, 1991 | June 23, 1994, 59 FR 32354 | August 28, 2023 | January 10, 2024.
SCAQMD Rule 1175 | Control of Emissions from the Manufacture of Polymeric Cellular (Foam) Products | January 5, 1990 | October 26, 1992, 57 FR 48457 | September 25, 2023 | January 10, 2024.
SCAQMD Rule 1176 | Sumps and Wastewater Separators | January 5, 1990 | October 26, 1992, 57 FR 48457 | August 28, 2023 | January 10, 2024.
ᵃ SIP applicability was extended to the Southeast Desert Air Basin portion of Riverside County effective June 9, 1982. See 47 FR 25013 (June 9, 1982).
ᵇ The November 30, 2022 SIP submission also listed SCAQMD Rule 470. However, the version of Rule 470 that is currently part of the SIP for the Riverside County portion of the MDAQMD was adopted by the SoCalAPCD.

Table 3—Submitted Rule Rescissions
[Regulation VII rules applicable in the San Bernardino County portion of the MDAQMD]
Local agency and rule No. | Title | Adopted/amended date | SIP approval date and FR citation | Date of rescission by MDAQMD | Submittal date
SBCAPCD Rule 702 | Air Monitoring Stations | July 25, 1977 | June 3, 1980, 45 FR 37428 | September 26, 2022 | May 11, 2023.
SBCAPCD Rule 703 | Air Monitoring Summaries | February 1, 1977 | June 3, 1980, 45 FR 37428 | September 26, 2022 | May 11, 2023.
SBCAPCD Rule 704 | Episode Criteria | September 26, 1977 | June 21, 1982, 47 FR 26618 | September 26, 2022 | May 11, 2023.
SBCAPCD Rule 705 | Episode Notification | September 26, 1977 | June 21, 1982, 47 FR 26618 | September 26, 2022 | May 11, 2023.
SBCAPCD Rule 706 | Episode Declaration | February 1, 1977 | June 3, 1980, 45 FR 37428 | September 26, 2022 | May 11, 2023.
SBCAPCD Rule 707 | First Stage Episode Actions | September 26, 1977 | June 21, 1982, 47 FR 26618 | September 26, 2022 | May 11, 2023.
SBCAPCD Rule 708 | Second Stage Episode Actions | September 26, 1977 | June 21, 1982, 47 FR 26618 | September 26, 2022 | May 11, 2023.
SBCAPCD Rule 709 | Third Stage Episode Actions | September 26, 1977 | June 21, 1982, 47 FR 26618 | September 26, 2022 | May 11, 2023.
SBCAPCD Rule 710 | Inter-district Coordination | September 26, 1977 | June 21, 1982, 47 FR 26618 | September 26, 2022 | May 11, 2023.
SBCAPCD Rule 711 | Termination of Episodes | September 26, 1977 | June 21, 1982, 47 FR 26618 | September 26, 2022 | May 11, 2023.
SBCAPCD Rule 712 | Advisory Council | September 26, 1977 | June 21, 1982, 47 FR 26618 | September 26, 2022 | May 11, 2023.

Table 4—Submitted Rule Rescissions
[Regulation VII rules applicable in the Riverside County portion of the MDAQMD]
Local agency and rule No. | Title | Adopted/revised date | SIP approval date and FR citation ᵃ | Date of rescission by MDAQMD | Submittal date
SCAQMD Rule 701 | General | April 4, 1980 | September 28, 1981, 46 FR 47451 | September 26, 2022 | May 11, 2023.
SCAQMD Rule 702(a), (d), (e), (f), (h) and (i) | Definitions | April 4, 1980 | September 28, 1981, 46 FR 47451 | September 26, 2022 | May 11, 2023.
SCAQMD Rule 702(b) | Definitions | July 11, 1980 | September 28, 1981, 46 FR 47451 | September 26, 2022 | May 11, 2023.
SCAQMD Rule 702(c) | Definitions | May 6, 1977 | May 26, 1978, 43 FR 22719 | September 26, 2022 | May 11, 2023.
SCAQMD Rule 702 (map only) | Definitions | July 8, 1977 | December 21, 1978, 43 FR 59490 | September 26, 2022 | May 11, 2023.
SCAQMD Rule 703 | Episode Criteria | April 4, 1980 | September 28, 1981, 46 FR 47451 | September 26, 2022 | May 11, 2023.
SCAQMD Rule 704 | Episode Declaration | April 4, 1980 | September 28, 1981, 46 FR 47451 | September 26, 2022 | May 11, 2023.
SCAQMD Rule 705 | Termination of Episodes | April 4, 1980 | September 28, 1981, 46 FR 47451 | September 26, 2022 | May 11, 2023.
SCAQMD Rule 706 | Episode Notification | April 4, 1980 | September 28, 1981, 46 FR 47451 | September 26, 2022 | May 11, 2023.
SCAQMD Rule 707 | Radio Communication System | July 11, 1980 | September 28, 1981, 46 FR 47451 | September 26, 2022 | May 11, 2023.
SCAQMD Rule 708 | Plans | July 11, 1980 | September 28, 1981, 46 FR 47451 | September 26, 2022 | May 11, 2023.
SCAQMD Rule 708.1 | Stationary Sources Required to File Plans | May 6, 1977 | May 26, 1978, 43 FR 22719 | September 26, 2022 | May 11, 2023.
SCAQMD Rule 708.2 | Content of Stationary Source Curtailment Plans | July 8, 1977 | December 21, 1978, 43 FR 59490 | September 26, 2022 | May 11, 2023.
SCAQMD Rule 708.3 | Transportation Management Plans | July 9, 1982 | June 1, 1983, 48 FR 24362 | September 26, 2022 | May 11, 2023.
SCAQMD Rule 708.4(a) and (b) | Procedural Requirements for Plans | July 11, 1980 | September 28, 1981, 46 FR 47451 | September 26, 2022 | May 11, 2023.
SCAQMD Rule 708.4(c), (d), (e), and (f) | Procedural Requirements for Plans | May 6, 1977 | May 26, 1978, 43 FR 22719 | September 26, 2022 | May 11, 2023.
SCAQMD Rule 708.4(g) and (h) | Procedural Requirements for Plans | April 4, 1980 | September 28, 1981, 46 FR 47451 | September 26, 2022 | May 11, 2023.
SCAQMD Rule 709(a) | First Stage Episode Actions | April 4, 1980 | September 28, 1981, 46 FR 47451 | September 26, 2022 | May 11, 2023.
SCAQMD Rule 709(b), (d), (f), and (g) | First Stage Episode Actions | May 6, 1977 | May 26, 1978, 43 FR 22719 | September 26, 2022 | May 11, 2023.
SCAQMD Rule 709(c) | First Stage Episode Actions | February 1, 1980 | September 28, 1981, 46 FR 47451 | September 26, 2022 | May 11, 2023.
SCAQMD Rule 709(e) | First Stage Episode Actions | July 11, 1980 | September 28, 1981, 46 FR 47451 | September 26, 2022 | May 11, 2023.
SCAQMD Rule 710(a) and (b)(4) | Second Stage Episode Actions | April 4, 1980 | September 28, 1981, 46 FR 47451 | September 26, 2022 | May 11, 2023
SCAQMD Rule 710(b)(1)(A)-(C), (b)(2)(A)-(C), (b)(3)(A), (c)(1), (c)(2), and (c)(3)(A) | Second Stage Episode Actions | May 6, 1977 | May 26, 1978, 43 FR 22719 | September 26, 2022 | May 11, 2023.
SCAQMD Rule 710(b)(1)(D), (b)(2)(D), (b)(3)(B), and (c)(3)(B) | Second Stage Episode Actions | July 11, 1980 | September 28, 1981, 46 FR 47451 | September 26, 2022 | May 11, 2023.
SCAQMD Rule 711(a)(1), (a)(4), (b)(1) and (b)(4) | Third Stage Episode Actions | April 4, 1980 | September 28, 1981, 46 FR 47451 | September 26, 2022 | May 11, 2023.
SCAQMD Rule 711(b)(2)(A) and (B), (b)(3)(A), (c)(2)(A) and (B), and (c)(3)(A) | Third Stage Episode Actions | May 6, 1977 | May 26, 1978, 43 FR 22719 | September 26, 2022 | May 11, 2023.
SCAQMD Rule 711(a)(1)(E), (a)(2)(D), (a)(3)(B), (a)(4)(F), (b)(3)(B), and (b)(4)(F) | Third Stage Episode Actions | July 11, 1980 | September 28, 1981, 46 FR 47451 | September 26, 2022 | May 11, 2023.
SCAQMD Rule 713 | Interdistrict Coordination | April 4, 1980 | September 28, 1981, 46 FR 47451 | September 26, 2022 | May 11, 2023.
SCAQMD Rule 714 | Source Inspections | April 4, 1980 | September 28, 1981, 46 FR 47451 | September 26, 2022 | May 11, 2023.
SCAQMD Rule 715 | Burning of Fossil Fuel on Episode Days | April 4, 1980 | September 28, 1981, 46 FR 47451 | September 26, 2022 | May 11, 2023.
ᵃ With the exception of SCAQMD Rule 708.3, the applicability of SCAQMD rules that had been approved as part of the California SIP was extended to the Southeast Desert portion of Riverside County through the EPA's final action published at 47 FR 25013 (June 9, 1982). The July 9, 1982 version of SCAQMD Rule 708.3 became part of the applicable SIP for the SCAQMD, including the Southeast Desert portion of Riverside County in 1983.

We proposed to approve these rules and rule rescissions because we determined that they comply with the relevant CAA requirements. Our proposed action and related technical support documents contain more information on the rules and rule rescissions and our evaluation of them for compliance with CAA requirements.

II. Public Comments and EPA Responses

The EPA's proposed action provided a 30-day public comment period. During this period, we received no comments.

III. EPA Action

No comments were submitted. Therefore, as authorized in section 110(k)(3) of the Act, the EPA is taking final action to approve revisions to the MDAQMD portion of the California SIP submitted by CARB on September 23, 2022, November 30, 2022, May 11, 2023, and January 10, 2024. More specifically, the EPA is finalizing the following actions:

• The EPA is approving submitted MDAQMD Rule 701 because it would strengthen the SIP.

• The EPA is approving the following rule rescissions because the rescissions of the rules meet all relevant requirements: SCAQMD Rules 405, 409, 466, 466.1, 467, 1101, 1104, 1175, and 1176; SoCalAPCD Rules 432 and 470; and SBCAPCD Rules 432, 470, and 480; and all the SBCAPCD and SCAQMD Regulation VII rules listed in Tables 3 and 4 of this document.

• The EPA is taking no action on the rescissions of SoCalAPCD Rule 464 and SCAQMD Rule 464, other than to add clarifying regulatory text, because they were previously replaced in the applicable SIP by approval of SCAQMD Rule 464 and MDAQMD Rule 464, respectively. The EPA is also taking no action on the rescissions of SBCAPCD Rules 466 and 467 because they were previously removed as part of the applicable SIP and regulatory text was previously added to document their removal.

IV. Incorporation by Reference

In this document, the EPA is finalizing regulatory text that includes incorporation by reference. In accordance with requirements of 1 CFR 51.5, the EPA is finalizing the incorporation by reference of MDAQMD Rule 701, which establishes certain procedures and requirements for air pollution emergencies. The EPA is also finalizing regulatory text that deletes certain rules that were previously incorporated by reference from the applicable California SIP. The rules that were previously incorporated by reference are SCAQMD Rules 405, 409, 464, 466, 466.1, 467, 1101, 1104, 1175, and 1176; SoCalAPCD Rules 432, 464, and 470; and SBCAPCD Rules 432, 470, and 480 as listed in Table 2 of this document, and the air pollution emergency rules listed in Tables 3 and 4 of this document. The EPA has made, and will continue to make, these documents available through https://www.regulations.gov and at the EPA Region IX Office (please contact the person identified in the FOR FURTHER INFORMATION CONTACT section of this preamble for more information).

V. Statutory and Executive Order Reviews

Under the CAA, the Administrator is required to approve a SIP submission that complies with the provisions of the Act and applicable federal regulations. 42 U.S.C. 7410(k); 40 CFR 52.02(a). Thus, in reviewing SIP submissions, the EPA's role is to approve state choices, provided that they meet the criteria of the CAA. Accordingly, this action merely approves state law as meeting federal requirements and does not impose additional requirements beyond those imposed by state law. For that reason, this action:

• Is not a significant regulatory action subject to review by the Office of Management and Budget under Executive Order 12866 (58 FR 51735, October 4, 1993);

• Is not subject to Executive Order 14192 (90 FR 9065, February 6, 2025) because SIP actions are exempt from review under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a state program;

• Is not a significant regulatory action subject to Executive Order 13211 (66 FR 28355, May 22, 2001); and

• Is not subject to requirements of section 12(d) of the National Technology Transfer and Advancement Act of 1995 (15 U.S.C. 272 note) because application of those requirements would be inconsistent with the CAA.

In addition, the SIP is not approved to apply on any Indian reservation land or in any other area where the EPA or an Indian Tribe has demonstrated that a Tribe has jurisdiction. In those areas of Indian country, the rule does not have Tribal implications and will not impose substantial direct costs on Tribal governments or preempt Tribal law as specified by Executive Order 13175 (65 FR 67249, November 9, 2000).

This action is subject to the Congressional Review Act, and the EPA will submit a rule report to each House of the Congress and to the Comptroller General of the United States. This action is not a “major rule” as defined by 5 U.S.C. 804(2).

Under section 307(b)(1) of the CAA, petitions for judicial review of this action must be filed in the United States Court of Appeals for the appropriate circuit by March 9, 2026. Filing a petition for reconsideration by the Administrator of this final rule does not affect the finality of this action for the purposes of judicial review, nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Nitrogen dioxide, Ozone, Particulate matter, Reporting and recordkeeping requirements, Sulfur dioxide, Volatile organic compounds.

Dated: December 17, 2025.
Michael Martucci,
Acting Regional Administrator, Region IX.

For the reasons stated in the preamble, the Environmental Protection Agency amends part 52, chapter I, title 40 of the Code of Federal Regulations as follows:

PART 52—APPROVAL AND PROMULGATION OF IMPLEMENTATION PLANS

1. The authority citation for part 52 continues to read as follows:

Authority: 42 U.S.C. 7401 et seq.

Subpart F—California

2. Section 52.220 is amended by adding paragraphs (c)(32)(iv)(K) and (L), (c)(38)(ii), (c)(39)(ii)(T) and (U), (c)(42)(xiii)(G) and (xvi)(D), (c)(51)(xii)(D), (c)(67)(i)(C), (c)(69)(vi) through (viii), (c)(70)(i)(H) and (I), (c)(79)(iv)(D), (c)(94)(iii)(B), (c)(103)(xviii)(E), (c)(125)(ii)(F), (c)(126)(iv)(B), (c)(166)(i)(A)(3), (c)(182)(i)(A)(6) and (7), (c)(186)(i)(C)(2), (c)(202)(i)(D)(2) and (c)(610)(i)(D)(7), to read as follows:

§ 52.220 Identification of plan.

* * * * *

(c) * * *

(32) * * *

(iv) * * *

(K) Previously approved on June 14, 1978, in paragraph (c)(32)(iv)(A) of this section and now deleted without replacement for implementation in the Mojave Desert Air Quality Management District: Rules 432 and 470.

(L) Previously approved on June 14, 1978, in paragraph (c)(32)(iv)(A) of this section and now deleted with replacement in paragraph (c)(69)(i) of this section for implementation in the South Coast Air Quality Management District: Rule 464.

* * * * *

(38) * * *

(ii) Previously approved on May 26, 1978, in paragraph (c)(38)(i) of this section and now deleted with replacement in paragraph (c)(610)(i)(D)(7) of this section for implementation in the Mojave Desert Air Quality Management District: Rules 702(c), 708.1, 708.4(c), (d), (e) and (f), 709(b), (d), (f), and (g), 710(b)(1)(A) through (C), (b)(2)(A) through (C), (b)(3)(A), (c)(1), (c)(2) and (c)(3)(A), and 711(b)(2)(A) and (B), (b)(3)(A), (c)(2)(A) and (B), and (c)(3)(A).

(39) * * *

(ii) * * *

(T) Previously approved on September 8, 1978, in paragraph (c)(39)(ii)(C) of this section and now deleted without replacement: Rules 432 and 470.

(U) Previously approved on June 3, 1980, in paragraph (c)(39)(ii)(E) of this section and now deleted with replacement in paragraph (c)(610)(i)(D)(7) of this section: Rules 703 and 706.

* * * * *

(42) * * *

(xiii) * * *

(G) Previously approved on June 3, 1980, in paragraph (c)(42)(xiii)(C) of this section and now deleted with replacement in paragraph (c)(610)(i)(D)(7) of this section: Rule 702.

* * * * *

(xvi) * * *

(D) Previously approved on December 21, 1978, in paragraph (c)(42)(xvi)(B) of this section and now deleted with replacement in paragraph (c)(610)(i)(D)(7) of this section for implementation in the Mojave Desert Air Quality Management District: Rule 702 (Map only) and 708.2.

* * * * *

(51) * * *

(xii) * * *

(D) Previously approved on January 27, 1981, in paragraph (c)(51)(xii)(A) of this section and now deleted without replacement: Rule 480.

* * * * *

(67) * * *

(i) * * *

(C) Previously approved on September 28, 1981, in paragraph (c)(67)(i)(B) of this section and now deleted with replacement in paragraph (c)(610)(i)(D)(7) of this section for implementation in the Mojave Desert Air Quality Management District: Rule 709(c).

* * * * *

(69) * * *

(vi) Previously approved on January 21, 1981, in paragraph (c)(69)(i) of this section and now deleted with replacement in paragraph (c)(202)(i)(D)(1) of this section for implementation in the Mojave Desert Air Quality Management District: Rule 464.

(vii) Previously approved on September 28, 1981, in paragraph (c)(69)(ii) of this section and now deleted with replacement in paragraph (c)(610)(i)(D)(2) of this section for implementation in the Mojave Desert Air Quality Management District: Rule 405.

(viii) Previously approved on September 28, 1981, in paragraph (c)(69)(ii) of this section and now deleted with replacement in paragraph (c)(610)(i)(D)(7) of this section for implementation in the Mojave Desert Air Quality Management District: Rules 701, 702(a), (d), (e), (f), (h) and (i), 703 through 706, 708.4(g) and (h), 709(a), 710(a) and (b)(4), 711(a)(1), (a)(4), (b)(1) and (b)(4) and 713-715.

(70) * * *

(i) * * *

(H) Previously approved on September 2, 1981, in paragraph (c)(70)(i)(B) of this section and now deleted without replacement for implementation in the Mojave Desert Air Quality Management District: Rule 1101.

(I) Previously approved on September 28, 1981, in paragraph (c)(70)(i)(C) of this section and now deleted with replacement in paragraph (c)(610)(i)(D)(7) of this section for implementation in the Mojave Desert Air Quality Management District: Rules 702(b), 707, 708, 708.4(a) and (b), 709(e), 710(b)(1)(D), (b)(2)(D), (b)(3)(B), and (c)(3)(B), and 711(a)(1)(E), (a)(2)(D), (a)(3)(B), (a)(4)(F), (b)(3)(B) and (b)(4)(F).

* * * * *

(79) * * *

(iv) * * *

(D) Previously approved on July 8, 1982, in paragraph (c)(79)(iv)(B) of this section and now deleted with replacement in paragraph (c)(207)(i)(D)(1) of this section for implementation in the Mojave Desert Air Quality Management District: Rule 466.1.

* * * * *

(94) * * *

(iii) * * *

(B) Previously approved on June 21, 1982, in paragraph (c)(94)(iii)(A) of this section and now deleted with replacement in paragraph (c)(610)(i)(D)(7) of this section: Rules 701, 704, 705, 707 through 711 and 712.

* * * * *

(103) * * *

(xviii) * * *

(E) Previously approved on July 6, 1982, in paragraph (c)(103)(xviii)(A) of this section and now deleted with replacement in paragraph (c)(610)(i)(D)(4) of this section for implementation in the Mojave Desert Air Quality Management District: Rule 409.

* * * * *

(125) * * *

(ii) * * *

(F) Previously approved on November 16, 1983, in paragraph (c)(125)(ii)(D) of this section and now deleted with replacement in paragraph (c)(207)(i)(D)(1) of this section for implementation in the Mojave Desert Air Quality Management District: Rule 467.

* * * * *

(126) * * *

(iv) * * *

(B) Previously approved on June 1, 1983, in paragraph (c)(126)(iv)(A) of this section and now deleted with replacement in paragraph (c)(610)(i)(D)(7) of this section for implementation in the Mojave Desert Air Quality Management District: Rule 708.3.

* * * * *

(166) * * *

(i) * * *

(A) * * *

(3) Previously approved on January 15, 1987, in paragraph (c)(166)(i)(A)(1) of this section and now deleted with replacement in paragraph (c)(207)(i)(D)(1) of this section for implementation in the Mojave Desert Air Quality Management District: Rule 466.

* * * * *

(182) * * *

(i) * * *

(A) * * *

(6) Previously approved on October 26, 1992, in paragraph (c)(182)(i)(A)(1) of this section and now deleted with replacement in paragraph (c)(457)(i)(B)(1) of this section for implementation in the Mojave Desert Air Quality Management District: Rule 1176.

(7) Previously approved on October 26, 1992, in paragraph (c)(182)(i)(A)(1) of this section and now deleted without replacement for implementation in the Mojave Desert Air Quality Management District: Rule 1175.

* * * * *

(186) * * *

(i) * * *

(C) * * *

(2) Previously approved on June 23, 1994, in paragraph (c)(186)(i)(C)(1) of this section and now deleted with replacement (c)(558)(i)(A)(1) of this section for implementation in the Mojave Desert Air Quality Management District: Rule 1104.

* * * * *

(202) * * *

(i) * * *

(D) * * *

(2) Previously approved on September 27, 1995, in paragraph (c)(202)(i)(D)(1) of this section and now deleted with replacement in paragraph (c)(457)(i)(B)(1) of this section: Rule 464.

* * * * *

(610) * * *

(i) * * *

(D) * * *

(7) Rule 701, “Air Pollution Emergency Contingency Actions,” adopted on September 26, 2022.

* * * * *

[FR Doc. 2026-00208 Filed 1-7-26; 8:45 am]

BILLING CODE 6560-50-P